DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2016

AGENCY: Office of the Secretary, USDA.

ACTION: Semiannual regulatory agenda.

SUMMARY: This agenda provides summary descriptions of significant and not significant regulations being developed in agencies of the U.S. Department of Agriculture (USDA) in conformance with Executive Orders (E.O.) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important significant regulatory actions and a Statement of Regulatory Priorities are included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: September 22, 2016.
Michael Poe,
Chief, Legislative and Regulatory Staff.

Agricultural Marketing Service—Prerule Stage
Sequence No. | Title | Regulation Identifier No.
163 | National Bioengineered Food Disclosure Standard | 0581-AD54

Agricultural Marketing Service—Proposed Rule Stage
Sequence No. | Title | Regulation Identifier No.
164 | National Organic Program, Organic Pet Food Standards | 0581-AD20
165 | National Organic Program, Organic Apiculture Practice Standard | 0581-AD31
166 | National Organic Program—Organic Aquaculture Standards (Reg Plan Seq No. 1) | 0581-AD34
167 | Sunset 2017 Amendments to the National List | 0581-AD52
168 | Amendment to Compost Standards for Organic Production | 0581-AD53
169 | Organic Check off Program | 0581-AD55
References in boldface appear in The Regulatory Plan in part II of this issue of the Federal Register.

Agricultural Marketing Service—Final Rule Stage
Sequence No. | Title | Regulation Identifier No.
170 | National Organic Program, Origin of Livestock | 0581-AD08
171 | NOP; Organic Livestock and Poultry Practices; (Reg Plan Seq No. 2) | 0581-AD44
References in boldface appear in The Regulatory Plan in part II of this issue of the Federal Register.

Agricultural Marketing Service—Completed Actions
Sequence No. | Title | Regulation Identifier No.
172 | Sunset 2016 Amendments to the National List | 0581-AD43
173 | Livestock Mandatory Reporting: Reauthorization of Livestock Mandatory Reporting and Revision of Swine and Lamb Reporting Requirements | 0581-AD45
174 | Removal of Program To Assess Organic Certifying Agencies in 7 CFR Part 37 | 0581-AD56

Animal and Plant Health Inspection Service—Proposed Rule Stage
Sequence No. | Title | Regulation Identifier No.
175 | Plant Pest Regulations; Update of General Provisions | 0579-AC98

Animal and Plant Health Inspection Service—Final Rule Stage
Sequence No. | Title | Regulation Identifier No.
176 | Scrapie in Sheep and Goats | 0579-AC92
177 | Bovine Spongiform Encephalopathy and Scrapie; Importation of Small Ruminants and Their Germplasm, Products, and Byproducts | 0579-AD10
178 | Importation of Wood Packaging Material From Canada | 0579-AD28
179 | Establishing a Performance Standard for Authorizing the Importation and Interstate Movement of Fruits and Vegetables | 0579-AD71
180 | Agricultural Bioterrorism Protection Act of 2002; Biennial Review and Republication of the Select Agent and Toxin List | 0579-AE08

Animal and Plant Health Inspection Service—Long-Term Actions
Sequence No. | Title | Regulation Identifier No.
181 | Brucellosis and Bovine Tuberculosis; Update of General Provisions | 0579-AD65

Animal and Plant Health Inspection Service—Completed Actions
Sequence No. | Title | Regulation Identifier No.
182 | Mexican Hass Avocado Import Program | 0579-AE05

Grain Inspection, Packers and Stockyards Administration—Proposed Rule Stage
Sequence No. | Title | Regulation Identifier No.
183 | Unfair Practices and Unreasonable Preference (Reg Plan Seq No. 6) | 0580-AB27
References in boldface appear in The Regulatory Plan in part II of this issue of the Federal Register.

Grain Inspection, Packers and Stockyards Administration—Final Rule Stage
Sequence No. | Title | Regulation Identifier No.
184 | Clarification of Scope (Reg Plan Seq No. 7) | 0580-AB25
References in boldface appear in The Regulatory Plan in part II of this issue of the Federal Register.

Food and Nutrition Service—Proposed Rule Stage
Sequence No. | Title | Regulation Identifier No.
185 | Modernizing Supplemental Nutrition Assistance Program (SNAP) Benefit Redemption Systems | 0584-AE37

Food and Nutrition Service—Final Rule Stage
Sequence No. | Title | Regulation Identifier No.
186 | National School Lunch and School Breakfast Programs: Nutrition Standards for All Foods Sold in School, as Required by the Healthy, Hunger-Free Kids Act of 2010 (Reg Plan Seq No. 9) | 0584-AE09
References in boldface appear in The Regulatory Plan in part II of this issue of the Federal Register.

Food and Nutrition Service—Completed Actions
Sequence No. | Title | Regulation Identifier No.
187 | Child Nutrition Programs: Local School Wellness Policy Implementation Under the Healthy, Hunger-Free Kids Act of 2010 | 0584-AE25

Food Safety and Inspection Service—Final Rule Stage
Sequence No. | Title | Regulation Identifier No.
188 | Elimination of Trichina Control Regulations and Consolidation of Thermally Processed, Commercially Sterile Regulations | 0583-AD59

Forest Service—Long-Term Actions
Sequence No. | Title | Regulation Identifier No.
189 | Management of Surface Activities Associated With Outstanding Mineral Rights on National Forest System Lands (Directive) | 0596-AD03

Office of Procurement and Property Management—Proposed Rule Stage
Sequence No. | Title | Regulation Identifier No.
190 | Designation of Biobased Product Categories for Federal Procurement, Round 11 | 0599-AA24
191 | Designation of Biobased Product Categories for Federal Procurement, Round 12 | 0599-AA25

DEPARTMENT OF AGRICULTURE (USDA)

Agricultural Marketing Service (AMS)

Prerule Stage

163. • National Bioengineered Food Disclosure Standard

Legal Authority: Pub. L. 114-216

Abstract: This notice solicits public comment on how AMS should implement a national bioengineered food disclosure standard and is part of an open and transparent process to encourage public participation in developing the national standard.

Timetable:

Action | Date | FR Cite
ANPRM | 11/00/16 |
NPRM | 11/00/17 |
Final Action | 07/00/18 |

Regulatory Flexibility Analysis Required: Yes.

Agency Contact: Dr. Craig A. Morris, Deputy Administrator, Department of Agriculture, Agricultural Marketing Service, Livestock & Seed Programs, P.O. Box 96456, Washington, DC 20250-0249, Phone: 202 720-5705, Fax: 202 720-3499, Email: craig.morris@usda.gov.

RIN: 0581-AD54

DEPARTMENT OF AGRICULTURE (USDA)

Agricultural Marketing Service (AMS)

Proposed Rule Stage

164. National Organic Program, Organic Pet Food Standards

Legal Authority: 7 U.S.C. 6501

Abstract: The National Organic Program (NOP) establishes national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically based regulations for voluntary adoption by State jurisdictions to ensure the safety, quality, and effectiveness of feed. In November 2008, the NOSB approved a final recommendation for organic pet food standards incorporating the provisions drafted by the pet food task force.

Timetable:

Action | Date | FR Cite
NPRM | 05/00/17 |

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD20

165. National Organic Program, Organic Apiculture Practice Standard

Legal Authority: 7 U.S.C. 6501

Abstract: This action proposes to amend the USDA organic regulations to reflect an October 2010 recommendation submitted to the Secretary by the National Organic Standards Board (NOSB) concerning the production of organic apicultural (or beekeeping) products.

Timetable:

Action | Date | FR Cite
NPRM | 05/00/17 |

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD31

166. National Organic Program—Organic Aquaculture Standards

Regulatory Plan: This entry is Seq. No. 1 in part II of this issue of the Federal Register.

RIN: 0581-AD34

167. • Sunset 2017 Amendments to the National List

Legal Authority: 7 U.S.C. 6501 to 6522

Abstract: This proposed rule would address 11 2017 sunset review recommendations submitted to the Secretary by the National Organic Standards Board (NOSB) following their October, 2015 meeting. This rule proposes the removal of three synthetic substances and eight non organic, agricultural substances from the National List of Allowed and Prohibited Substances (National List). These substances are currently allowed for various uses in organic crop and livestock production and organic handling. Upon removal from the National List, use of these substances in organic production or handling would be prohibited. The prohibitions would take effect on the sunset date of June 27, 2017, following publication of a final rule.

Timetable:

Action | Date | FR Cite
NPRM | 11/00/16 |

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD52

168. • Amendment to Compost Standards for Organic Production

Legal Authority: Pub. L. 109-97

Abstract: This rulemaking action provides clarification on the prohibition of certain compost products in organic production systems under the USDA organic regulations. This rule change will codify into regulations the policies outlined in NOP Guidance 5016: Allowance of Green Waste in Organic Production Systems.

Timetable:

Action | Date | FR Cite
NPRM | 04/00/17 |

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD53

169. • Organic Check Off Program

Legal Authority: 7 U.S.C. 6501 to 6522; 7 U.S.C. 7401

Abstract: The purpose of the new program would be to maintain and expand markets for organic products by funding promotion, research, and information programs to increase demand and create markets for organic products.

Timetable:

Action | Date | FR Cite
NPRM | 11/00/16 |
Final Action | 10/00/17 |

Regulatory Flexibility Analysis Required: Yes.

Agency Contact: Charles W. Parrott, Associate Deputy Administrator, Department of Agriculture, Agricultural Marketing Service, Specialty Crop, 1400 Independence Avenue SW., Washington, DC 20250, Phone: 202 720-6393, Fax: 202 720-0016, Email: charles.parrott@usda.gov.

RIN: 0581-AD55.

DEPARTMENT OF AGRICULTURE (USDA)

Agricultural Marketing Service (AMS)

Final Rule Stage

170. National Organic Program, Origin of Livestock

Legal Authority: 7 U.S.C. 6501

Abstract: The current regulations provide two tracks for replacing dairy animals which are tied to how dairy farmers transition to organic production. Farmers who transition an entire distinct herd must thereafter replace dairy animals with livestock that has been under organic management from the last third of gestation. Farmers who do not transition an entire distinct herd may perpetually obtain replacement animals that have been managed organically for 12 months prior to marketing milk or milk products as organic. The proposed action would eliminate the two-track system and require that upon transition, all existing and replacement dairy animals from which milk or milk products are intended to be sold, labeled, or represented as organic must be managed organically from the last third of gestation.

Timetable:

Action | Date | FR Cite
NPRM | 04/28/15 | 80 FR 23455
NPRM Comment Period End | 07/27/15 |
Final Action | 06/00/17 |

Regulatory Flexibility Analysis Required: Yes.

Agency Contact: Miles V. McEvoy, Deputy Administrator, USDA National Organic Program, Department of Agriculture, Agricultural Marketing Service, 1400 Independence Avenue SW., Washington, DC 20250, Phone: 202 720-3252.

RIN: 0581-AD08

171. NOP; Organic Livestock and Poultry Practices

Regulatory Plan: This entry is Seq. No. 2 in part II of this issue of the Federal Register.

RIN: 0581-AD44

DEPARTMENT OF AGRICULTURE (USDA)

Agricultural Marketing Service (AMS)

Completed Actions

172. Sunset 2016 Amendments to the National List

Legal Authority: 7 U.S.C. 6507 to 6522

Abstract: This rule would propose five non-organic, non-agricultural substances used as ingredients in or on processed products to be removed from the National List of Allowed and Prohibited Substances (National List).

Completed:

Reason | Date | FR Cite
Final Action | 08/03/16 | 81 FR 51075
Final Action Effective | 09/12/16 |

Regulatory Flexibility Analysis Required: Yes.

Agency Contact: Miles V. McEvoy, Phone: 202 720-3252.

RIN: 0581-AD43

173. Livestock Mandatory Reporting: Reauthorization of Livestock Mandatory Reporting and Revision of Swine and Lamb Reporting Requirements

Legal Authority: 7 U.S.C. 1635

Abstract: This action would reauthorize and amend the mandatory price reporting provisions under the Livestock Mandatory Reporting (LMR) program authorized by the Agricultural Marketing Act of 1946. This proposed rule action would reauthorize mandatory livestock reporting for 5 years and amend the swine and lamb reporting requirements. This action is authorized by the Agriculture Reauthorizations Act of 2015 (2015 Act) and requests from the lamb industry.

Completed:

Reason | Date | FR Cite
Final Action | 08/11/16 | 81 FR 52969
Final Action Effective | 10/11/16 |

Regulatory Flexibility Analysis Required: Yes.

Agency Contact: Michael P. Lynch, Phone: 202 720-6231.

RIN: 0581-AD45

174. • Removal of Program To Assess Organic Certifying Agencies in 7 CFR Part 37

Legal Authority: 7 U.S.C. 1621 to 1627

Abstract: This direct final rule informs the public that AMS is removing 7 CFR part 37 Program to Assess Organic Certifying Agencies from the Code of Federal Regulations.

Timetable:

Action | Date | FR Cite
Final Action | 08/09/16 | 81 FR 52589

Regulatory Flexibility Analysis Required: Yes.

Agency Contact: Jennifer Porter, Director, Quality Assessment Division, LPS Program, Department of Agriculture, Agricultural Marketing Service, 1400 Independence Avenue SW., Washington, DC 20250, Phone: 202 690-3147, Email: jennifer.porter@ams.usda.gov.

RIN: 0581-AD56

BILLING CODE 3410-02-P

DEPARTMENT OF AGRICULTURE (USDA)

Animal and Plant Health Inspection Service (APHIS)

Proposed Rule Stage

175. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are proposing to revise our regulations regarding the movement of plant pests. We are proposing criteria regarding the movement and environmental release of biological control organisms, and are proposing to establish regulations to allow the importation and movement in interstate commerce of certain types of plant pests without restriction by granting exceptions from permitting requirements for those pests. We are also proposing to revise our regulations regarding the movement of soil. This proposed rule replaces a previously published proposed rule, which we are withdrawing as part of this document. This proposal would clarify the factors that would be considered when assessing the risks associated with the movement of certain organisms and facilitate the movement of regulated organisms and articles in a manner that also protects U.S. agriculture.

Timetable:

Action | Date | FR Cite
Notice of Intent To Prepare an Environmental Impact Statement | 10/20/09 | 74 FR 53673
Notice Comment Period End | 11/19/09 |
NPRM | 11/00/16 |
NPRM Comment Period End | 01/00/17 |

Regulatory Flexibility Analysis Required: Yes.

Agency Contact: Colin Stewart, Assistant Director, Pests, Pathogens, and Biocontrol Permits, PPQ, Department of Agriculture, Animal and Plant Health Inspection Service, 4700 River Road, Unit 133, Riverdale, MD 20737-1236, Phone: 301 851-2237.

RIN: 0579-AC98

DEPARTMENT OF AGRICULTURE (USDA)

Animal and Plant Health Inspection Service (APHIS)

Final Rule Stage

176. Scrapie in Sheep and Goats

Legal Authority: 7 U.S.C. 8301 to 8317

Abstract: This rulemaking will amend the scrapie regulations by changing the risk groups and categories established for individual animals and for flocks, increasing the use of genetic testing as a means of assigning risk levels to animals, reducing movement restrictions for animals found to be genetically less susceptible or resistant to scrapie, and simplifying, reducing, or removing certain recordkeeping requirements. It also provides designated scrapie epidemiologists with more alternatives and flexibility when testing animals in order to determine flock designations under the regulations. The rule changes the definition of high-risk animal, which will change the types of animals eligible for indemnity, and to pay higher indemnity for certain pregnant ewes and does and early maturing ewes and does. The changes will also make the identification and recordkeeping requirements for goat owners consistent with those for sheep owners. These changes affect sheep and goat producers, persons who handle sheep and goats in interstate commerce, and State governments.

Timetable:

Action | Date | FR Cite
NPRM | 09/10/15 | 80 FR 54659
NPRM Comment Period End | 11/09/15 |
NPRM Comment Period Reopened | 11/16/15 | 80 FR 70718
NPRM Comment Period Reopened End | 12/09/15 |
Final Rule | 01/00/17 |

Regulatory Flexibility Analysis Required: Yes.

Agency Contact: Diane Sutton, Sheep, Goat, Cervid, and Equine Health Center; Surveillance, Preparedness, and Response Services, VS, Department of Agriculture, Animal and Plant Health Inspection Service, 4700 River Road, Unit 43, Riverdale, MD 20737-1235, Phone: 301 851-3509.

RIN: 0579-AC92

177. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking amends the bovine spongiform encephalopathy (BSE) and scrapie regulations regarding the importation of live sheep, goats, and wild ruminants and their embryos, semen, products, and byproducts. The scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 07/18/16 | 81 FR 46619
NPRM Comment Period End | 09/16/16 |
Final Rule | 06/00/17 |

Regulatory Flexibility Analysis Required: Yes.

Agency Contact: Langston Hull, Senior Staff Veterinary Medical Officer, Animal Permitting and Negotiating Services, VS, Department of Agriculture, Animal and Plant Health Inspection Service, 4700 River Road, Unit 39, Riverdale, MD 20737-1231, Phone: 301 851-3300.

RIN: 0579-AD10

178. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles with regard to the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11 |
Final Rule | 04/00/17 |
Final Action Effective | 05/00/17 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

179. Establishing a Performance Standard for Authorizing the Importation and Interstate Movement of Fruits and Vegetables

Legal Authority: 7 U.S.C. 450; 7 U.S.C. 7701 to 7772; 7 U.S.C. 7781 to 7786; 21 U.S.C. 136 and 136(a)

Abstract: This rulemaking will amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the Internet. It also will remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This action will allow for the consideration of requests to authorize the importation or interstate movement of new fruits and vegetables in a manner that enables a more flexible and responsive regulatory approach to evolving pest situations in both the United States and exporting countries. It will not, however, alter the science-based process in which the risk associated with importation or interstate movement of a given fruit or vegetable is evaluated or the manner in which risks associated with the importation or interstate movement of a fruit or vegetable are mitigated.

Timetable:

Action | Date | FR Cite
NPRM | 09/09/14 | 79 FR 53346
NPRM Comment Period End | 11/10/14 |
NPRM Comment Period Reopened | 12/04/14 | 79 FR 71973
NPRM Comment Period End | 01/09/15 |
NPRM Comment Period Reopened | 02/06/15 | 80 FR 6665
NPRM Comment Period End | 03/10/15 |
Final Rule | 01/00/17 |
Final Rule Effective | 04/00/17 |

Regulatory Flexibility Analysis Required: Yes.

Agency Contact: Nicole Russo, Assistant Director, Regulatory Coordination and Compliance, PPQ, Department of Agriculture, Animal and Plant Health Inspection Service, 4700 River Road, Unit 133, Riverdale, MD 20737-1236, Phone: 301 851-2159.

RIN: 0579-AD71

180. Agricultural Bioterrorism Protection Act of 2002; Biennial Review and Republication of the Select Agent and Toxin List

Legal Authority: 7 U.S.C. 8401

Abstract: The Agricultural Bioterrorism Protection Act of 2002 requires the biennial review and republication of the list of select agents and toxins and the revision of the list as necessary. Accordingly, we solicited public comment on the current list of select agents and toxins in our regulations and suggestions regarding any addition or reduction of the animal or plant pathogens currently on the list of select agents. In accordance with the Act, this rulemaking will provide a revised republication of the list of select agents and toxins.

Timetable:

Action | Date | FR Cite
ANPRM | 02/27/15 | 80 FR 10627
ANPRM Comment Period End | 04/28/15 |
NPRM | 01/19/16 | 81 FR 2762
NPRM Comment Period End | 03/21/16 |
Final Rule | 11/00/16 |

Regulatory Flexibility Analysis Required: Yes.

Agency Contact: Freeda Isaac, National Director, Agriculture Select Agent Services, Department of Agriculture, Animal and Plant Health Inspection Service, 4700 River Road, Unit 2, Riverdale, MD 20737-1231, Phone: 301 851-3300.

RIN: 0579-AE08

DEPARTMENT OF AGRICULTURE (USDA)

Animal and Plant Health Inspection Service (APHIS)

Long-Term Actions

181. Brucellosis and Bovine Tuberculosis; Update of General Provisions

Legal Authority: 7 U.S.C. 1622; 7 U.S.C. 8301 to 8317; 15 U.S.C. 1828; 21 U.S.C. 136 and 136a; 31 U.S.C. 9701

Abstract: This rulemaking would consolidate the regulations governing bovine tuberculosis (TB), currently found in 9 CFR part 77, and those governing brucellosis, currently found in 9 CFR part 78. As part of this consolidation, we are proposing to transition the TB and brucellosis programs away from a State status system based on disease prevalence. Instead, States and tribes would implement an animal health plan that identifies sources of the diseases within the State or tribe and specifies mitigations to address the risk posed by these sources. The consolidated regulations also would set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison to make these requirements clearer and ensure that they more effectively mitigate the risk of introduction of the diseases into the United States.

Timetable:

Action | Date | FR Cite
NPRM | 12/16/15 | 80 FR 78461
NPRM Comment Period End | 03/15/16 |
NPRM Comment Period Extended | 03/11/16 | 81 FR 12832
NPRM Comment Period Extended End | 05/16/16 |
Next Action Undetermined |  |

Regulatory Flexibility Analysis Required: Yes.

Agency Contact: Langston Hull, Phone: 301 851-3300.

C. William Hench, Phone: 970 494-7378.

RIN: 0579-AD65

DEPARTMENT OF AGRICULTURE (USDA)

Animal and Plant Health Inspection Service (APHIS)

Completed Actions

182. • Mexican Hass Avocado Import Program

Legal Authority: 7 U.S.C. 450; 7 U.S.C. 7701 to 7772; 7 U.S.C. 7781 to 7786; 21 U.S.C. 136 and 136(a)

Abstract: Commercial consignments of Hass avocado fruit are currently authorized entry into the continental United States, Hawaii, and Puerto Rico from the Mexican State of Michoacán under a systems approach to mitigate against quarantine pests of concern. We are amending the regulations to allow the importation of fresh Hass avocado fruit into the continental United States, Hawaii, and Puerto Rico from all of Mexico, provided individual Mexican States meet the requirements set out in the regulations and the operational work plan. Initially, this action would only apply to the Mexican State of Jalisco. With the exception of a clarification of the language concerning when sealed, insect-proof containers would be required to be used in shipping and the removal of mandatory fruit cutting at land and maritime borders, the current systems approach will not change. The current systems approach, which includes requirements for orchard certification, traceback labeling, pre-harvest orchard surveys, orchard sanitation, post-harvest safeguards, fruit cutting and inspection at the packinghouse, port-of-arrival inspection, and clearance activities, will be required for importation of fresh Hass avocado fruit from all approved areas of Mexico. The fruit will also be required to be imported in commercial consignments and accompanied by a phytosanitary certificate issued by the national plant protection organization of Mexico with an additional declaration stating that the consignment was produced in accordance with the systems approach described in the operational work plan. This final rule will allow for the importation of fresh Hass avocado fruit from Mexico while continuing to provide protection against the introduction of plant pests into the continental United States, Hawaii, and Puerto Rico.

Timetable:

Action | Date | FR Cite
NPRM | 02/18/15 | 80 FR 8561
NPRM Comment Period End | 04/20/15 |
Final Rule | 05/27/16 | 81 FR 33581
Final Rule Effective | 06/27/16 |

Regulatory Flexibility Analysis Required: Yes.

Agency Contact: David B. Lamb, Senior Regulatory Policy Specialist, RPM, PPQ, Department of Agriculture, Animal and Plant Health Inspection Service, 4700 River Road, Unit 133, Riverdale, MD 20737-1231, Phone: 301 851-2013.

RIN: 0579-AE05

BILLING CODE 3410-34-P

DEPARTMENT OF AGRICULTURE (USDA)

Grain Inspection, Packers and Stockyards Administration (GIPSA)

Proposed Rule Stage

183. Unfair Practices and Unreasonable Preference

Regulatory Plan: This entry is Seq. No. 6 in part II of this issue of the Federal Register.

RIN: 0580-AB27

DEPARTMENT OF AGRICULTURE (USDA)

Grain Inspection, Packers and Stockyards Administration (GIPSA)

Final Rule Stage

184. Clarification of Scope

Regulatory Plan: This entry is Seq. No. 7 in part II of this issue of the Federal Register.

RIN: 0580-AB25

BILLING CODE 3410-EN-P

DEPARTMENT OF AGRICULTURE (USDA)

Food and Nutrition Service (FNS)

Proposed Rule Stage

185. Modernizing Supplemental Nutrition Assistance Program (SNAP) Benefit Redemption Systems

Legal Authority: Pub. L. 113-79

Abstract: The Agricultural Act of 2014 (Pub. L. 113-79, the Farm Bill) amended the Food and Nutrition Act of 2008 (the FNA) to include new requirements regarding the acceptance and processing of SNAP client benefits by all non-exempt retailers participating in SNAP. Statutory changes will modernize EBT systems and ensure greater program integrity. The Food and Nutrition Service (FNS) proposes to revise certain SNAP regulations for which multiple State agencies have sought and received approval of waivers. The revisions would streamline program administration, offer greater flexibility to State agencies, and improve customer service.

Timetable:

Action | Date | FR Cite
NPRM | 04/00/17 |

Regulatory Flexibility Analysis Required: Yes.

Agency Contact: Charles H. Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE37

DEPARTMENT OF AGRICULTURE (USDA)

Food and Nutrition Service (FNS)

Final Rule Stage

186. National School Lunch and School Breakfast Programs: Nutrition Standards for All Foods Sold in School, as Required by the Healthy, Hunger-Free Kids Act of 2010

Regulatory Plan: This entry is Seq. No. 9 in part II of this issue of the Federal Register.

RIN: 0584-AE09

DEPARTMENT OF AGRICULTURE (USDA)

Food and Nutrition Service (FNS)

Completed Actions

187. Child Nutrition Programs: Local School Wellness Policy Implementation Under the Healthy, Hunger-Free Kids Act of 2010

Legal Authority: Pub. L. 111-296

Abstract: This final rule codified a provision of the Healthy, Hunger-Free Kids Act (Pub. L. 111-296; the Act) under 7 CFR parts 210 and 220. Section 204 of the Act requires each local educational agency (LEA) to establish, for all schools under its jurisdiction, a local school wellness policy. The Act requires that the wellness policy include goals for nutrition, nutrition education, physical activity, and other school-based activities that promote student wellness. In addition, the Act requires that local educational agencies ensure stakeholder participation in development of their local school wellness policies, and periodically assess compliance with the policies, and disclose information about the policies to the public.

Completed:

Reason | Date | FR Cite
Final Action | 07/29/16 | 81 FR 50151
Final Action Effective | 08/29/16 |

Regulatory Flexibility Analysis Required: Yes.

Agency Contact: Charles H. Watford, Phone: 703 605-0800, Email: charles.watford@fns.usda.gov.

Lynnette M. Thomas, Phone: 703 605-4782, Email: lynnette.thomas@fns.usda.gov.

RIN: 0584-AE25

BILLING CODE 3410-30-P

DEPARTMENT OF AGRICULTURE (USDA)

Food Safety and Inspection Service (FSIS)

Final Rule Stage

188. Elimination of Trichina Control Regulations and Consolidation of Thermally Processed, Commercially Sterile Regulations

Legal Authority: Federal Meat Inspection Act (FMIA); Poultry Products Inspection Act (PPIA)

Abstract: The Food Safety and Inspection Service (FSIS) proposed to amend the Federal meat inspection regulations to eliminate the requirements for both ready-to-eat (RTE) and not-ready-to-eat (NRTE) pork and pork products to be treated to destroy trichina (Trichinella spiralis) because the regulations are inconsistent with the Hazard Analysis and Critical Control Point (HACCP) regulations, and these prescriptive regulations are no longer necessary. If this supplemental proposed rule is finalized, FSIS will end its Trichinella Approved Laboratory Program (TALP program) for the evaluation and approval of non-Federal laboratories that use the pooled sample digestion technique to analyze samples for the presence of trichina. FSIS also proposed to consolidate the regulations on thermally processed, commercially sterile meat and poultry products (i.e., canned food products containing meat or poultry).

Timetable:

Action | Date | FR Cite
NPRM | 03/28/16 | 81 FR 17337
NPRM Comment Period End | 06/27/16 |
Final Action | 02/00/17 |

Regulatory Flexibility Analysis Required: Yes.

Agency Contact: Dr. Daniel L. Engeljohn, Assistant Administrator, Office of Policy and Program Development, Department of Agriculture, Food Safety and Inspection Service, 1400 Independence Avenue SW., 349-E JWB, Washington, DC 20250, Phone: 202 205-0495, Fax: 202 720-2025, Email: daniel.engeljohn@fsis.usda.gov.

RIN: 0583-AD59

BILLING CODE 3410-DM-P

DEPARTMENT OF AGRICULTURE (USDA)

Forest Service (FS)

Long-Term Actions

189. Management of Surface Activities Associated With Outstanding Mineral Rights on National Forest System Lands (Directive)

Legal Authority: EPA 1992

Abstract: Close to 11,000,000 acres (approximately 6 percent) of National Forest System (NFS) lands overlie severed (split) mineral estates owned by a party other than the Federal Government. More than 75 percent of these lands are in the Eastern Region (Forest Service Regions 8 and 9). There are two kinds of severed mineral estates, generally known as “private rights”: Reserved and outstanding. Reserved mineral rights are those retained by a grantor in a deed conveying land to the United States. Outstanding mineral rights are those owned by a party other than the surface owner at the time the surface was conveyed to the United States. Because these are non-Federal mineral interests, the U.S. Department of the Interior's Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently, there are no formal regulations governing the use of NFS lands for activities associated with the exercise of outstanding mineral rights underlying those lands. The Energy Policy Act of 1992, section 2508, directed the Secretary of Agriculture to apply specified terms and conditions to surface-disturbing activities related to development of oil and gas on certain lands with outstanding mineral rights on the Allegheny National Forest, and promulgate regulations implementing that section.

The Forest Service initiated rulemaking for the use of NFS lands for development activities associated with both reserved and outstanding minerals rights with an Advance Notice of Proposed Rulemaking (ANPRM) in the Federal Register on December 29, 2008. Comments from the public in response to the ANPRM conveyed a high level of concern about the broad scope of the rule, along with a high level of concern about effects of a broad rule on small businesses and local economies.

Timetable:

Action | Date | FR Cite
Advanced Notice of Proposed Directive | 12/29/08 | 73 FR 79424
Advanced Notice of Proposed Directive Comment Period End | 02/27/09 |
Proposed Directive | To Be Determined

Regulatory Flexibility Analysis Required: Yes.

Agency Contact: Tinathan A. Lewis, Phone: 202 205-3773, Email: talewis@fs.fed.us.

RIN: 0596-AD03

BILLING CODE 3410-11-P

DEPARTMENT OF AGRICULTURE (USDA)

Office of Procurement and Property Management (OPPM)

Proposed Rule Stage

190. Designation of Biobased Product Categories for Federal Procurement, Round 11

Legal Authority: Pub. L. 113-79

Abstract: This proposed rule will designate, for preferred procurement under the Federal Biobased Products Preferred Procurement Program, approximately 10 intermediate ingredient or feedstock product categories. An intermediate ingredient or feedstock is defined by the BioPreferred Program as a material or compound made in whole or in significant part from biological products. Typical intermediate ingredient or feedstock product categories will include renewable chemicals; plastic resins; chemical binders; oils, fats, and waxes; and fibers and fabrics.

Timetable:

Action | Date | FR Cite
NPRM | 11/00/16 |

Regulatory Flexibility Analysis Required: Yes.

Agency Contact: Marie Wheat, Department of Agriculture, Office of Procurement and Property Management, Washington, DC 20250, Phone: 202 239-4502, Email: marie.wheat@dm.usda.gov.

RIN: 0599-AA24

191. Designation of Biobased Product Categories for Federal Procurement, Round 12

Legal Authority: Pub. L. 113-79

Abstract: This proposed rule will designate, for preferred procurement under the Federal Biobased Products Preferred Procurement Program, approximately eight complex assembly product categories. A complex assembly is defined by the BioPreferred program as a system of distinct materials and components assembled to create a finished product with specific functional intent where some or all of the system inputs contain some amount of biobased material or feedstock. Typical complex assembly product categories will include products such as upholstered office chairs and other office furniture; mattresses; backpacks; boots; and other camping gear. The specific product categories to be included in this rulemaking are under investigation by the Office of Procurement and Property Management, but technical information is expected to be available to support the designation of about eight product categories.

Timetable:

Action | Date | FR Cite
NPRM | 02/00/17 |

Regulatory Flexibility Analysis Required: Yes.

Agency Contact: Marie Wheat, Department of Agriculture, Office of Procurement and Property Management, Washington, DC 20250, Phone: 202 239-4502, Email: marie.wheat@dm.usda.gov.

RIN: 0599-AA25

[FR Doc. 2016-29853 Filed 12-22-16; 8:45 am]

BILLING CODE 3410-98-P